DEPARTMENT OF THE TREASURY

Agency Information Collection Activities; Proposed Collection; Comment Request; Equal Employment Opportunity Complaint Forms

AGENCY: Departmental Offices, U.S. Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before March 22, 2022.

ADDRESSES: Send comments regarding the burden estimate, or any other aspect of the information collection, including suggestions for reducing the burden, by the following method:

• Federal E-rulemaking Portal: http://www.regulations.gov. Follow the instructions for submitting comments. Refer to Docket Number TREAS-DO-2022-0003 and the specific Office of Management and Budget (OMB) control number 1505-0262.

FOR FURTHER INFORMATION CONTACT: For questions related to these programs, please contact Guizelous Molock by emailing pra@treasury.gov, or calling (202) 923-0498. Additionally, you can view the information collection requests at www.reginfo.gov.

SUPPLEMENTARY INFORMATION:

Title: Equal Employment Opportunity Compliant Forms.

OMB Control Number: 1505-0262.

Type of Review: Extension of a currently approved collection.

Description: Title 29 of the United States Code of Federal Regulations (CFR) part 1614, directs agencies to maintain a continuing program to promote equal opportunity and to identify and eliminate discriminatory practices and policies. The Department of the Treasury (Department) is thus required to process complaints of employment discrimination from Department employees, former employees and applicants for jobs with the Department who claim discrimination based on their membership in a protected class, such as, race, color, religion, sex (including pregnancy, sexual orientation and gender identity), national origin, age (over 40), disability, genetic information, or retaliation for engaging in prior protected activity. Claims of discrimination based on parental status are processed as established by Executive Order 11478 (as amended by Executive Order 13152). Federal agencies must offer pre-complaint “informal” counseling and/or Alternative Dispute Resolution (ADR) to these “aggrieved individuals” (the aggrieved), claiming discrimination by officials of the Department. If the complaint is not resolved during the informal process, agencies must issue a Notice of Right to File a Complaint of Discrimination form to the aggrieved. This information is being collected for the purpose of processing informal and formal complaints of employment discrimination against the Department on the bases of race, color, religion, sex (including pregnancy, sexual orientation and gender identity), national origin, age (over 40), disability, genetic information, parental status, or retaliation. Pursuant to 29 CFR 1614.105, the aggrieved must participate in pre-complaint counseling to try to informally resolve his/her complaint prior to filing a complaint of discrimination. Information provided on the pre-complaint forms may be used by the aggrieved to assist in determining if she or he would like to file a formal complaint against the Department. The information captured on these forms will be reviewed by the staff of the Department's Office of Civil Rights and Diversity to frame the claims for investigation and determine whether the claims are within the parameters established in 29 CFR part 1614. In addition, data from the complaint forms is collected and aggregated for the purpose of discerning whether any Department of the Treasury policies, practices or procedures may be curtailing the equal employment opportunities of any protected group.

Forms: TD F 62-03.1, TD F 62-03.2, TD F 62-03.4, TD F 62-03.6, TD 62-03.7, TD 62-03.8, TD F 62-03.9, TD F 62-03.10, TD F 62-03.11, TD F 63-03.5.

Affected Public: Individuals and Households.

Estimated Number of Respondents: 1 to 20 respondents.

Frequency of Response: On Occasion.

Estimated Total Number of Annual Responses: 90.

Estimated Time per Response: 3 minutes to 1 hour.

Estimated Total Annual Burden Hours: 47.

Request for Comments: Comments submitted in response to this notice will be summarized and included in the request for Office of Management and Budget approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Dated: January 14, 2022.
Molly Stasko,
Treasury PRA Clearance Officer.

[FR Doc. 2022-01110 Filed 1-20-22; 8:45 am]

BILLING CODE 4810-AK-P